ENVIRONMENTAL PROTECTION AGENCY

[EPA-HQ-OAR-2010-0258; FRL-9906-43-OEI]

Information Collection Request Submitted to OMB for Review and Approval; Comment Request; Recordkeeping and Reporting Requirements Regarding the Sulfur Content of Motor Vehicle Gasoline Under the Tier 2 Rule

AGENCY: Environmental Protection Agency (EPA).

ACTION: Notice.

SUMMARY: The Environmental Protection Agency has submitted an information collection request (ICR), “Recordkeeping and Reporting Requirements Regarding the Sulfur Content of Motor Vehicle Gasoline under the Tier 2 Rule” (EPA ICR No.1907.06, OMB Control No. 2060-0437) to the Office of Management and Budget (OMB) for review and approval in accordance with the Paperwork Reduction Act (44 U.S.C. 3501 et seq.). This is a “proposed extension of the ICR, which is currently approved through April 30, 2014. Public comments were previously requested via the Federal Register (78FR 72675) on December 3, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 21, 2014.

ADDRESSES: Submit your comments, referencing Docket ID Number EPA-HQ-OAR-2010-0258, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Geanetta Heard, Fuel Compliance Center, 6406J, Environmental Protection Agency, 1200 Pennsylvania Ave. NW., Washington, DC 20460; telephone number: 202-343-9017 fax number: 202-566-1744 email address: heard.geanetta@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: With this ICR renewal, EPA is seeking permission to continue recordkeeping and reporting requirements for refiners and importers as they relate to gasoline sulfur content of motor vehicles under Section 211(e) (1) of the Clean Air Act and 40 CFR part 80, subpart H, and to provide a compliance option whereby a refiner or importer may demonstrate compliance with the gasoline sulfur control requirement via test results. These provisions, which have been in effect since 2006, are designed to grant compliance flexibility.

Form Numbers:

5900-312 Gasoline Sulfur Facility Summary report

5900-313 Gasoline sulfur Corporate Pool Facility Identification Report

5900-314 Overhead for Facility Level Reports

5900-315 Gasoline Sulfur Corporate Pool Averaging Report

5900-316 Overhead for Company Level Reports

5900-317 Gasoline Sulfur Allotment Banking Report

5900-318 Gasoline Sulfur Allotment Transfer/Conversion Report

5900-319 Gasoline Sulfur Credit Banking Allotment Generation Report

5900-320 Gasoline Sulfur Report for Batches Containing Previously Certified Gasoline

5900-321 Gasoline Sulfur and Benzene Batch Report

5900-322 Gasoline Sulfur Credit Transfer/Conversion Report

Respondents/affected entities: Gasoline Refiners, Importers, Gasoline Terminals, Pipelines, Truckers and Users of Research and Development Gasoline.

Respondent's obligation to respond: Mandatory.

Estimated number of respondents: 1,380 (total).

Frequency of response: Annually, Monthly and on occasion.

Total estimated burden: 38,573 hours (per year). Burden is defined at 5 CFR 1320.03(b).

Total estimated cost: $3,158,252 (per year), includes $0 annualized capital or operation & maintenance costs.

Changes in Estimates: The total number of responses for this ICR increased by 60 compared to the previously approved ICR in the renewal. The responses increased from 37,605 to 37,665 responses. Also, the burden increased by 75 from 38,498 in the previously approved ICR to 38,573 in this renewal. These increases are due to the inclusion of the Geographic Phase-in Areas (GPA) refineries that were left out of the previous ICR renewal. The cost of this ICR compared with the currently approved OMB collection increased by $584,298 due to better numbers used to calculate burden.

Richard T. Westlund,
Acting Director, Collection Strategies Division.

[FR Doc. 2014-03489 Filed 2-18-14; 8:45 am]

BILLING CODE 6560-50-P